DEPARTMENT OF VETERANS AFFAIRS

48 CFR Parts 841 and 842

RIN 2900-AQ38

VA Acquisition Regulation: Acquisition of Utility Services, and Contract Administration and Audit Services; Correction

AGENCY: Department of Veterans Affairs.

ACTION: Final rule; correction.

SUMMARY: On September 24, 2020, the Department of Veterans Affairs (VA) published a rule updating its VA Acquisition Regulation (VAAR) in phased increments. The changes seek to streamline and align the VAAR with the FAR and remove outdated and duplicative requirements and reduce burden on contractors. An error occurred in three amendatory instructions. This document corrects those errors.

DATES: This correction is effective October 26, 2020.

FOR FURTHER INFORMATION CONTACT: Mr. Rafael N. Taylor, Senior Procurement Analyst, Procurement Policy and Warrant Management Services, 003A2A, 425 I Street NW, Washington, DC 20001, (202) 382-2787. (This is not a toll-free number.)

SUPPLEMENTARY INFORMATION: On September 24, 2020, VA published a rule in the Federal Register (85 FR 60073) which contained errors in the description of the contents of subparts 841.2, 841.5, and 842.2.

Corrections

In FR Rule Doc. No. 2020-18172, appearing on page 60077 in the Federal Register of September 24, 2020, make the following corrections:

Subpart 841.2 [Corrected]

1. On page 60077, in the first column, in subpart 841.2, correct instruction number 14. to read as follows: “Subpart 841.2, consisting of section 841.201, is removed and reserved.”

2. On page 60077, in the first column, in subpart 841.5, under instruction number 15, correct section 841.501-70, Disputes—Utility contracts, to read as follows:

841.501-70 Disputes—Utility contracts.

The contracting officer shall insert the clause at 852.241-70, Disputes—Utility Contracts, in solicitations and contracts for utility services subject to the jurisdiction and regulation of a utility rate commission.

Subpart 842.2 [Corrected]

3. On page 60077, in the second column, in subpart 842.2, correct instruction number 20. to read as follows: “20. Subpart 842.2 is revised to read as follows:”

Dated: September 29, 2020.
Consuela Benjamin,
Regulations Development Coordinator, Office of Regulation Policy & Management, Office of the Secretary, Department of Veterans Affairs.

[FR Doc. 2020-21842 Filed 10-22-20; 8:45 am]

BILLING CODE 8320-01-P